DEPARTMENT OF JUSTICE

Office of Justice Programs

Agency Information Collection Activities: Proposed Collection; Comment Request

Action: 60-day notice of information collection under review: extension of a currently approved collection; Denial of Federal Benefits for Drug Offenders.

The Department of Justice, Office of Justice Programs, Bureau of Justice Assistance, has submitted the following information collection request for review and clearance in accordance with the Paperwork Reduction Act of 1995. This proposed information collection is published to obtain comments from the public and affected agencies. Comments are encouraged and will be accepted for “sixty days” until January 27, 2003.

If you have additional comments, suggestions, or need a copy of the proposed information collection instrument with instruments or additional information, please contact Robert Watkins, (202) 514-3447, Bureau of Justice Assistance, Office of Justice Programs, U.S. Department of Justice, 810 7th Street, NW., Washington, DC 20531.

Written comments and suggestions from the pubic and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Extension of currently approved collection.

(2) The title of the form/collection: Denial of Federal Benefits for Drug Offenders.

(3) The agency form number, if any, and the applicable component of the Department sponsoring the collection: The form number if OJP Form 3500/2, Office of Justice Programs, United States Department of Justice.

(4) Affected public who will be asked or required to respond, as well left brief abstract: Primary: State, Local, and Tribal Government. Other: None. Denial of Federal Benefits for Drug Offenders. Pub. L. 100-690, contains collection of information requirements to ensure that convicted drug offenders do not receive Federal benefits that have been denied by court action.

(5) An estimate of the total number of respondents and the amount of times estimated for an average respondent to respond/reply: It estimated that 252 respondents per year will take approximately 5 minutes to complete the denial of benefits from.

(6) An estimate of the total public burden (in hours) associated with the collection. There are an estimated 21 total hour burdens associated with this information collection.

If additional information is required contact: Mrs. Brenda E. Dryer, Deputy Clearance Officer, United States Department of Justice, Information Management and Security Staff, Justice Management Division, Suite 1600, 601 D Street, NW., Washington, DC. 20530, or via facsimile at (202) 514-1590.

Dated: November 20, 2002.
Brenda E. Dyer.
Department Deputy Clearance Office, Department of Justice.

[FR Doc. 02-29955 Filed 11-25-02; 8:45 am]

BILLING CODE 4410-18-M